DEPARTMENT OF TRANSPORTATION

Federal Aviation Administration

14 CFR Part 71

[Docket No. FAA-2012-0130; Airspace Docket No. 12-AWA-2]

RIN 2120-AA66

Modification of Multiple Compulsory Reporting Points; Continental United States, Alaska and Hawaii

AGENCY: Federal Aviation Administration (FAA), DOT.

ACTION: Final rule.

SUMMARY: This action amends seventeen Domestic, Alaskan, and Hawaiian compulsory reporting points previously updated in the FAA aeronautical database without accompanying regulatory action being taken. The FAA is taking this action to correct the compulsory reporting point information contained in part 71 to ensure it matches the information contained in the FAA's aeronautical database and to ensure the safety and efficiency of the National Airspace System (NAS).

DATES: Effective date 0901 UTC June 11, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

After a recent review of aeronautical data, the National Flight Data Center (NFDC) identified seventeen compulsory reporting points published in FAA Order 7400.9V, Airspace Designations and Reporting Points, that did not match the geographic position information contained in the FAA's aeronautical database for the reporting points. When these compulsory reporting points were updated in the aeronautical database, the corresponding part 71 amendment actions were not also accomplished, in error. The reporting points include fourteen Domestic reporting points, one Alaskan low altitude reporting point, and two Hawaiian reporting points. To overcome any confusion or flight safety issues associated with conflicting compulsory reporting point information published, the FAA is amending the seventeen part 71 reporting points identified by NFDC. Accordingly, since this is an administrative correction to update compulsory reporting point information currently contained in the FAA's aeronautical database, notice and public procedures under Title 5 U.S.C. 553(b) are unnecessary.

The Rule

The FAA amends Title 14 Code of Federal Regulations (14 CFR) part 71 by amending the geographic position information for fourteen Domestic reporting points, one Alaskan low altitude reporting point, and two Hawaiian reporting points. Specifically, the FAA amends the ALASK, BOGGY, CROAK, DOLPH, HEMLO, HERIN, HOBEE, IDAHO, SEDAR, TITON, TROUT, UTAHS, VERMO, and VIPER Domestic reporting points; the CORVA Alaskan low altitude reporting point; and the BATES and FISHE Hawaiian reporting points in part 71.

Domestic Low Altitude Reporting Points, Other Domestic Reporting Points designated at all altitudes, Alaskan Low Altitude Reporting Points, and Hawaiian Reporting Points are listed in paragraph 7001, 7003, 7004, and 7006, respectively of FAA Order 7400.9V dated August 9, 2011, and effective September 15, 2011, which is incorporated by reference in 14 CFR 71.1. The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends existing Domestic, Alaskan, and Hawaiian Reporting Points contained in the NAS.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, signed August 9, 2011, and effective September 15, 2011, is amended as follows:

Paragraph 7001 Domestic low altitude reporting points.

* * * * *

TITON: [Amended]

Lat. 46°42′43″ N., long. 120°44′31″ W. (INT Yakima, WA, 304° and Ellensburg, WA, 212° radials).

* * * * *

Paragraph 7003 Other domestic reporting points.

* * * * *

ALASK: [Amended]

Lat. 16°50′13″ N., long. 66°32′15″ W. (INT Ponce, PR, 181° and St Croix, VI, 243° radials).

* * * * *

BOGGY: [Amended]

Lat. 28°15′02″ N., long. 91°27′45″ W.

* * * * *

CROAK: [Amended]

Lat. 36°56′19″ N., long. 73°00′00″ W. (INT Norfolk, VA, 088° and Sea Isle, NJ, 146° radials).

* * * * *

DOLPH: [Amended]

Lat. 28°15′09″ N., long. 90°03′12″ W.

* * * * *

HEMLO: [Amended]

Lat. 43°18′09″ N., long. 126°40′50″ W.

HERIN: [Amended]

Lat. 42°00′10″ N., long. 67°47′26″ W.

HOBEE: [Amended]

Lat. 29°13′21″ N., long. 79°09′05″ W. (INT Carolina Beach, NC, NDB 192° bearing and Orlando, FL, VORTAC 070° radial).

IDAHO: [Amended]

Lat. 19°15′38″ N., long. 67°38′22″ W.

* * * * *

SEDAR: [Amended]

Lat. 45°30′26″ N., long. 126°43′03″ W.

* * * * *

TROUT: [Amended]

Lat. 30°23′01″ N., long. 76°59′59″ W.

UTAHS: [Amended]

Lat. 19°41′26″ N., long. 67°17′12″ W.

VERMO: [Amended]

Lat. 20°07′34″ N., long. 66°12′55″ W.

VIPER: [Amended]

Lat. 28°14′55″ N., long. 88°53′08″ W. (INT Leeville, FL, 130° and Pickens, FL, NDB

215° radials).

Paragraph 7004 Alaskan low altitude reporting points.

* * * * *

CORVA: [Amended]

Lat. 60°16′56″ N., long. 145°14′51″ W.

* * * * *

Paragraph 7006 Hawaiian reporting points.

BATES: [Amended]

Lat. 20°00′31″ N., long. 153°33′04″ W.

* * * * *

FISHE: [Amended]

Lat. 21°46′38″ N., long. 155°32′08″ W. (INT Molokai, HI, 067° and Upolu Point, HI, 010° radials).

* * * * *

Issued in Washington, DC, June 4, 2012.
Paul Gallant
Acting Manager, Airspace, Regulations and ATC Procedures Group.

[FR Doc. 2012-13993 Filed 6-8-12; 8:45 am]

BILLING CODE 4910-13-P